DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Kansas City Southern Railway Company (KCS)

[Docket Number FRA-2001-9746]

The Kansas City Southern Railway Company (KCS) seeks a permanent waiver of compliance with the Railroad Safety Appliance Standards, 49 CFR part 231.27(b)(3) which states that the location of the end platform shall be “One (1) centered on each end of car between inner ends of handholds not more than eight (8) inches above top of center sill.” KCS has a series of 138 box cars, numbered KCS 125550 through KCS 125688, that were rebuilt in 1999. During the rebuild the end platforms were added to both ends of each car with approximately one inch off the center of the car. KCS's petition did not provide the specific “eccentricity” of the end platforms as measured from the center between inner ends of handholds. KCS believes this defect creates no unsafe conditions.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2001-9746) and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC on January 2, 2002.
Grady C. Cothen, Jr.,
Deputy Associate Administrator for Safety Standards and Program Development.

[FR Doc. 02-311 Filed 1-4-02; 8:45 am]

BILLING CODE 4910-06-P